DEPARTMENT OF ENERGY

Federal Energy Regulatory Commission

Combined Notice of Filings #2

Take notice that the Commission received the following electric rate filings:

Docket Numbers: ER14-1941-000.

Applicants: PJM Interconnection, L.L.C.

Description: 1st Quarter 2014 Updates to PJM OA and RAA Membership Lists to be effective 3/31/2014.

Filed Date: 5/12/14.

Accession Number: 20140512-5086.

Comments Due: 5 p.m. ET 6/2/14.

Docket Numbers: ER14-1942-000.

Applicants: Public Service Company of New Mexico.

Description: Notice of Cancellation of Terminated TSA with SPS to be effective 6/1/2014.

Filed Date: 5/12/14.

Accession Number: 20140512-5101.

Comments Due: 5 p.m. ET 6/2/14.

Docket Numbers: ER14-1943-000.

Applicants: Southwestern Public Service Company.

Description: 2014-5-12_SPS-RBEC-GSEC-Elks IA-673-0.0.0 to be effective 5/13/2014.

Filed Date: 5/12/14.

Accession Number: 20140512-5177.

Comments Due: 5 p.m. ET 6/2/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 12, 2014.
Kimberly D. Bose,
Secretary.

[FR Doc. 2014-11722 Filed 5-20-14; 8:45 am]

BILLING CODE 6717-01-P